DEPARTMENT OF COMMERCE

U.S. Census Bureau

Proposed Information Collection; Comment Request; Pre-Canvass for the 2008 Business Research and Development Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before April 25, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Richard S. Hough, 301-763-4823 (or via the Internet at richard.s.hough@census.gov).

SUPPLEMENTARY INFORMATION:

I. Abstract

The Census Bureau, with support from the National Science Foundation, plans to conduct a pre-canvass for the 2008 Business Research and Development Survey (formerly the Survey of Industrial Research and Development).

The pre-canvass will be conducted to improve the efficiency and accuracy of the sample frame for the 2008 Business Research and Development Survey. It will contain a small number of questions (approximately 3 to 5), in the form of check boxes, to determine if the company has research and development expenditures and if so, a range of the volume of those expenditures. Census will eliminate, from the sample frame, companies that do not have R&D expenditures, improving the resulting sample for the 2008 survey.

II. Method of Collection

The Census Bureau will use mail out/ mail back survey forms and a web-based collection for the pre-canvass. Companies will be asked to respond within 30 days of the initial mail out.

III. Data

OMB Control Number: 0607-0912.

Form Number: BRD-08S.

Type of Review: Regular submission.

Affected Public: Manufacturing, mining, construction and services companies.

Estimated Number of Respondents: 30,000.

Estimated Time per Response: 15 minutes.

Estimated Total Annual Burden Hours: 7,500.

Estimated Total Annual Cost: $120,000.

Respondent's Obligation: Mandatory.

Legal Authority: Title 13 U.S.C. Section 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 20, 2008.
Gwellnar Banks,
Management Analyst, Office of the Chief Information Officer.

[FR Doc. E8-3505 Filed 2-22-08; 8:45 am]

BILLING CODE 3510-07-P